DEPARTMENT OF STATE

[Public Notice 4998]

30-Day Notice of Proposed Information Collection: Form DS-3035, J Visa Recommendation Application; OMB Control Number 1405-0135

ACTION: Notice of request for public comment and submission to OMB of proposed collection of information.

SUMMARY: The Department of State has submitted the following information collection request to the Office of Management and Budget (OMB) for approval in accordance with the Paperwork Reduction Act of 1995.

• Title of Information Collection: J Visa Waiver Recommendation Application.

• OMB Control Number: 1405-0135.

• Type of Request: Extension of a Currently Approved Collection.

• Originating Office: CA/VO.

• Form Number: DS-3035.

• Respondents: All J visa waiver applicants.

• Estimated Number of Respondents: 10,000 per year.

• Estimated Number of Responses: 10,000 per year.

• Average Hours Per Response: 1 hour.

• Total Estimated Burden: 10,000 hours per year.

• Frequency: Once per respondent.

• Obligation to Respond: Required to Obtain or Retain a Benefit.

DATES: Submit comments to the Office of Management and Budget (OMB) for up to 30 days from February 23, 2005.

ADDRESSES: Direct Comments and questions to Alex Hunt, the State Department Desk Officer in Office of Information and Regulatory Affairs at the Office of Management and Budget (OMB), who may be reached at 202-395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503

• Fax: 202-395-6974

FOR FURTHER INFORMATION CONTACT: You may obtain copies of the proposed information collection and supporting documents from Mark DesNoyer of the Office of Visa Services, U.S. Department of State, 2401 E St., NW., L-703, Washington, DC 20522, who may be reached on 202-663-1082 or desnoyerms@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The form collects information from aliens applying for a waiver of INA Section 212(e).

Methodology: Form DS-3035 will be directly submitted to the Waiver Review Division of the State Department's Visa Office.

Dated: January 28, 2005.
Janice L. Jacobs,
Deputy Assistant Secretary of State for Visa Services, Bureau of Consular Affairs, Department of State.

[FR Doc. 05-3432 Filed 2-22-05; 8:45 am]

BILLING CODE 4710-06-P